SURFACE TRANSPORTATION BOARD

[Docket No. AB 1303X]

Somerset Railroad Corporation—Abandonment Exemption—in Niagara County, N.Y.

On October 7, 2020, Somerset Railroad Corporation (SRC) filed with the Surface Transportation Board (Board) a petition under 49 U.S.C. 10502 for exemption from the prior approval requirements of 49 U.S.C. 10903 to abandon approximately 13.39 miles of rail line located in Niagara County, N.Y. (the Line). The Line extends from milepost 2.2 to a power plant located at the end of the line and traverses U.S. Postal Service Zip Codes 14012, 14008, 14108, and 14094. SRC states that there are no stations on the Line. (Pet. 5.)

According to SRC, the Line was constructed to provide rail service to the Somerset power generation station, which was decommissioned as of March 31, 2020, and had been the sole shipper on the Line. (Pet. 1-2.) SRC states that it last provided rail service to the power plant in December 2019 and that the Line cannot be used for overhead traffic because it is stub-ended. (Id. at 2-3.) ¹ In a letter appended as Exhibit D to the petition, Riesling Power LLC, which owns both SRC and the decommissioned power plant, states that it no longer needs rail service and that it supports the proposed abandonment.

¹ SRC states that it is currently using the Line to move the power plant's coal hopper cars to be scrapped, and that SRC anticipates salvaging the track, rail ties, and other track materials following abandonment but intends to leave the bridges in place. (Pet. 2.)

SRC states that, based on the information in its possession, the Line does not contain federally granted rights-of-way. (Id. at 1.) Any documentation in SRC's possession will be made available promptly to those requesting it.

The interest of railroad employees will be protected by the conditions set forth in Oregon Short Line Railroad—Abandonment Portion Goshen Branch between Firth & Ammon, in Bingham & Bonneville Counties, Idaho, 360 I.C.C. 91 (1979).

By issuing this notice, the Board is instituting an exemption proceeding pursuant to 49 U.S.C. 10502(b). A final decision will be issued by January 25, 2021.

Any offer of financial assistance (OFA) under 49 CFR 1152.27(b)(2) will be due no later than 120 days after the filing of the petition for exemption, or 10 days after service of a decision granting the petition for exemption, whichever occurs sooner. Persons interested in submitting an OFA must first file a formal expression of intent to file an offer by November 6, 2020, indicating the type of financial assistance they wish to provide (i.e., subsidy or purchase) and demonstrating that they are preliminarily financially responsible. See 49 CFR 1152.27(c)(1)(i).

Following abandonment, the Line may be suitable for other public use, including interim trail use. Any request for a public use condition under 49 CFR 1152.28 or for trail use/rail banking under 49 CFR 1152.29 will be due no later than November 16, 2020.²

² Filing fees for OFAs and trail use requests can be found at 49 CFR 1002.2(f)(25) and (27), respectively.

All pleadings, referring to Docket No. AB 1303X, should be filed with the Surface Transportation Board via e-filing on the Board's website. In addition, a copy of each pleading must be served on SRC's representative, Justin J. Marks, Clark Hill PLC, 1001 Pennsylvania Avenue NW, Suite 1300 South, Washington, DC 20004. Replies to the petition are due on or before November 16, 2020.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: October 21, 2020.
By the Board, Allison C. Davis, Director, Office of Proceedings.
Regena Smith-Bernard,
Clearance Clerk.

[FR Doc. 2020-23682 Filed 10-26-20; 8:45 am]

BILLING CODE 4915-01-P